DEPARTMENT OF THE INTERIOR

Fish and Wildlife Service

50 CFR Part 17

[Docket Nos. FWS-R1-ES-2012-0017; FWS-R1-ES-2013-0012; 4500030113]

RIN 1018-AX72

RIN 1018-AZ54

Endangered and Threatened Wildlife and Plants; Threatened Status and Designation of Critical Habitat for Eriogonum codium (Umtanum Desert Buckwheat) and Physaria douglasii subsp. tuplashensis (White Bluffs Bladderpod)

AGENCY: Fish and Wildlife Service, Interior.

ACTION: Final rules; delay of effective dates.

SUMMARY: This document temporarily delays for 6 months the effective date of two rules to conserve Eriogonum codium (Umtanum desert buckwheat) and Physaria douglasii subsp. tuplashensis (White Bluffs bladderpod). Both rules had an effective date of May 23, 2013. We are taking this action to allow time for us to accept and consider additional public comments on the rules.

DATES: The effective dates for the final rules published April 23, 2013, at 78 FR 23983 and 78 FR 24007, are delayed until November 22, 2013.

ADDRESSES: You may obtain copies of these rules and related materials at http://www.regulations.gov in Dockets FWS-R1-ES-2012-0017 (for the listing rule) and FWS-R1-ES-2013-0012 (for the critical habitat rule).

FOR FURTHER INFORMATION CONTACT: Ken Berg, Manager, U.S. Fish and Wildlife Service, Washington Fish and Wildlife Office, 510 Desmond Drive, Suite 102, Lacey, Washington 98503-1263, by telephone (360) 753-9440, or by facsimile (360) 753-9405. Persons who use a telecommunications device for the deaf (TDD) may call the Federal Information Relay Service (FIRS) at 800-877-8339.

SUPPLEMENTARY INFORMATION: Under the authority of the Endangered Species Act (Act) (16 U.S.C. 1531 et seq.), the U.S. Fish and Wildlife Service issued the following two rules on April 23, 2013: “Endangered and Threatened Wildlife and Plants; Threatened Status for Eriogonum codium (Umtanum Desert Buckwheat) and Physaria douglasii subsp. tuplashensis (White Bluffs Bladderpod)” (78 FR 23983) and “Endangered and Threatened Wildlife and Plants; Designation of Critical Habitat for Eriogonum codium (Umtanum Desert Buckwheat) and Physaria douglasii subsp. tuplashensis (White Bluffs Bladderpod)” (78 FR 24007). The listing final rule implements the Federal protections provided by the Act for these species. The critical habitat final rule conserves both species' habitat under the Act. Both rules had an effective date of May 23, 2013.

We now delay for 6 months the effective date of the rules. The delay in effective date is necessary to allow us time to follow proper procedure in accordance with 16 U.S.C. 1533(b)(5). We are taking this action to allow time for us to accept and consider additional public comments on the rules. To the extent that 5 U.S.C. 553 applies to this action, this action is exempt from notice and comment because it constitutes a rule of procedure under 5 U.S.C. 553(b)(A).

Dated: May 20, 2013.
Rachel Jacobsen,
Principal Deputy Assistant Secretary for Fish and Wildlife and Parks.

[FR Doc. 2013-12380 Filed 5-22-13; 8:45 am]

BILLING CODE 4310-55-P